DEPARTMENT OF LABOR

Office of Federal Contract Compliance Programs

Proposed Renewal of Information Collection Requirements; Comment Request

ACTION: Notice.

SUMMARY: The Department of Labor (DOL), as part of its continuing effort to reduce paperwork and respondent burden, conducts a pre-clearance consultation program to provide the general public and Federal agencies with an opportunity to comment on proposed and/or continuing collections of information in accordance with the Paperwork Reduction Act of 1995 (PRA). This program helps ensure that requested data is provided in the desired format, that the reporting burden (time and financial resources) is minimized, that the collection instruments are clearly understood, and that the impact of collection requirements on respondents is properly assessed. Currently, the Office of Federal Contract Compliance Programs (OFCCP) is soliciting comments on its proposal to renew the Office of Management and Budget (OMB) approval of the construction information collection. A copy of the proposed information collection request can be obtained on www.regulations.gov or by contacting the office listed below in the ADDRESSES section of this Notice.

DATES: Written comments must be submitted to OFCCP at the addresses listed below on or before November 24, 2017.

ADDRESSES: You may submit comments, identified by OMB Control Number 1250-0001, by either one of the following methods:

Electronic comments: Through the Federal eRulemaking portal at www.regulations.gov. Follow the instructions for submitting comments.

Mail, Hand Delivery, Courier: Addressed to Debra A. Carr, Director, Division of Policy and Program Development, Office of Federal Contract Compliance Programs, 200 Constitution Avenue NW., Room C-3325, Washington, DC 20210. Telephone: (202) 693-0103 (voice) or (202) 693- 1337 (TTY).

Instructions: Please submit one copy of your comments by only one method. For faster submission, we encourage commenters to transmit their comment electronically via the www.regulations.gov Web site. Comments mailed to the address provided above must be postmarked before the close of the comment period. All submissions must include the agency's name and the OMB Control Number identified above for this information collection. Comments, including any personal information provided, become a matter of public record and will be posted on www.regulations.gov. They will also be summarized and/or included in the request for OMB approval of the information collection request.

FOR FURTHER INFORMATION CONTACT: Debra A. Carr, Director, Division of Policy and Program Development, Office of Federal Contract Compliance Programs, Room C-3325, 200 Constitution Avenue NW., Washington, DC 20210. Telephone: (202) 693-0103 (voice) or (202) 693-1337 (TTY/TDD) (these are not toll-free numbers). Copies of this notice may be obtained in alternative formats (large print, braille, audio tape or disc) upon request by calling the numbers listed above.

SUPPLEMENTARY INFORMATION:

I. Background: OFCCP administers three nondiscrimination and equal employment opportunity laws:

• Executive Order 11246, as amended (EO 11246);

• Section 503 of the Rehabilitation Act of 1973, as amended, 29 U.S.C. 793 (referred to as Section 503); and

• Vietnam Era Veterans' Readjustment Assistance Act of 1974, as amended, 38 U.S.C. 4212 (VEVRAA).

Generally, these authorities prohibit employment discrimination and require affirmative action to ensure that equal employment opportunity regardless of race, color, religion, sex, sexual orientation, gender identity, national origin, disability, or status as a protected veteran by Federal contractors and subcontractors (hereafter collectively referred to as contractors). Additionally, contractors are prohibited from discriminating against applicants and employees for asking about, discussing, or sharing information about their pay or the pay of their co-workers. For purposes of OMB clearance, OFCCP divides its responsibilities under these authorities into two categories: (1) Construction and (2) non-construction (supply and service). This clearance request covers the construction information collection. It also merges the recordkeeping and reporting requirements of two existing information collections with this ICR. Specifically, the ICR entitled “Prohibiting Discrimination Based on Sexual Orientation and Gender Identity by Contractors and Subcontractors” that covers prohibitions against discrimination on the basis of sexual orientation and gender identity,¹ and the ICR entitled “Government Contractors, Prohibitions Against Pay Secrecy Policies and Actions” that covers prohibitions against pay secrecy policies and actions.² To view the current construction information collection, go to https://www.reginfo.gov/public/do/PRAViewICR?ref_nbr=201406-1250-001.

¹ See OMB Control Number 1250-0009 with an expiration date of September 30, 2018.

² See OMB Control No. 1250-0008 with an expiration date of December 31, 2018.

II. Review Focus: DOL is particularly interested in comments which:

• Evaluate whether the proposed collection of information is necessary for the compliance and enforcement functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions: DOL seeks the approval of the renewal of this information in order to carry out its responsibility to enforce the antidiscrimination and affirmative action provisions of the three legal authorities it administers. Comments submitted in response to this notice will be summarized and/or included in the request for Office of Management and Budget approval of the information collection request; they will also become a matter of public record.

Debra A. Carr,
Director, Division of Policy and Program Development, Office of Federal Contract Compliance Programs.

[FR Doc. 2017-20333 Filed 9-22-17; 8:45 am]

BILLING CODE P